DEPARTMENT OF ENERGY

Federal Energy Regulatory Commission

Combined Notice of Filings #1

Take notice that the Commission received the following electric rate filings:

Docket Numbers: ER13-630-000.

Applicants: Arizona Public Service Company.

Description: Supplement to December 28, 2012 Arizona Public Service Company Triennial Market Power Update.

Filed Date: 3/19/13.

Accession Number: 20130319-5124.

Comments Due: 5 p.m. ET 4/9/13.

Docket Numbers: ER13-1137-000.

Applicants: Midwest Independent Transmission System Operator, Inc.

Description: 03-20-2013 Module D Clarification to be effective 3/26/2013.

Filed Date: 3/20/13.

Accession Number: 20130320-5090.

Comments Due: 5 p.m. ET 4/10/13.

Docket Numbers: ER13-1138-000.

Applicants: Duke Energy Indiana, Inc.

Description: 2013 Annual Reconciliation Filing RS 253 to be effective 7/1/2012.

Filed Date: 3/21/13.

Accession Number: 20130321-5014.

Comments Due: 5 p.m. ET 4/11/13.

Docket Numbers: ER13-1139-000.

Applicants: Imperial Valley Solar 1, LLC.

Description: Application for Market-Based Rate Authority to be effective 3/22/2013.

Filed Date: 3/21/13.

Accession Number: 20130321-5027.

Comments Due: 5 p.m. ET 4/11/13.

Docket Numbers: ER13-1140-000.

Applicants: Southern California Edison Company.

Description: Letter Agreement NRG Solar Alpine II Project to be effective 3/11/2013.

Filed Date: 3/21/13.

Accession Number: 20130321-5042.

Comments Due: 5 p.m. ET 4/11/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 21, 2013.
Nathaniel J. Davis, Sr.,
Deputy Secretary.

[FR Doc. 2013-07491 Filed 3-29-13; 8:45 am]

BILLING CODE 6717-01-P